DEPARTMENT OF COMMERCE

Department of Commerce: Energy for Manufacturing Roundtable

AGENCY: International Trade Administration, Department of Commerce.

ACTION: Notice of meeting.

SUMMARY: The U.S. Department of Commerce (DOC) will host a half-day “Energy for Manufacturing Roundtable” on October 20, 2009. This event is intended for members of the manufacturing industry and energy suppliers to the manufacturing industry. Participants will learn about and discuss the consequences that energy consumption and workforce education have on competitiveness; how energy efficiency models can strengthen competition and innovation; and how energy consumption patterns are spurring greater implementation of industrial energy efficient technologies. U.S. leadership in industrial energy efficiency technologies being deployed worldwide will be highlighted.

DATES: October 20, 2009.

Location: U.S. Department of Commerce, Washington, DC.

ADDRESS: To apply to participate in the roundtable, please send an e-mail to energyformanufacturing@mail.doc.gov by October 15, 2009.

SUPPLEMENTARY INFORMATION:

Selection Criteria

The Department invites applications from manufacturers, energy suppliers, and trade associations representing either the manufacturing industry or energy suppliers to the manufacturing industry to participate in the Roundtable. To be considered for participation, applicants should provide information regarding their qualifications to participate in the event and to make a valuable contribution based on their experiences regarding the topics to be discussed as identified in the Summary above. As space for this event is limited to 50 persons representing the private sector, DOC wishes to ensure broad coverage of industry sectors. Applicants will be notified of their selection to participate by October 16, 2009.

Dated: September 22, 2009.
Cheryl McQueen,
Acting Director, Office of Energy and Environmental Industries, U.S. Department of Commerce.

[FR Doc. E9-23964 Filed 10-5-09; 8:45 am]

BILLING CODE 3510-DR-P